DEPARTMENT OF ENERGY

Federal Energy Regulatory Commission

[Docket No. CP21-467-000]

Texas Gas Transmission, LLC; Notice of Availability of the Final Environmental Impact Statement for the Proposed Henderson County Expansion Project

The staff of the Federal Energy Regulatory Commission (FERC or Commission) has prepared a final Environmental Impact Statement (EIS) for the Henderson County Expansion Project (Project), proposed by Texas Gas Transmission, LLC (Texas Gas) in the above-referenced docket. Texas Gas requests a Certificate of Public Convenience and Necessity and Abandonment Authorization to construct, operate, and maintain, and abandon certain natural gas transmission pipeline facilities in Henderson and Webster Counties, Kentucky and Posey and Johnson Counties, Indiana. The Project purpose is to provide up to 220,000 dekatherms per day of new firm transportation service to CenterPoint Energy Indiana South's (CenterPoint) AB Brown Generating Station in Posey County, Indiana.

The final EIS assesses the potential environmental effects of the construction and operation of the Project in accordance with the requirements of the National Environmental Policy Act (NEPA). FERC staff concludes that approval of the proposed Project, with the mitigation measures recommended in the EIS, would result in some adverse environmental impacts; however, with the exception of potential impacts on climate change, we conclude that impacts would be reduced to less than significant levels. Regarding climate change impacts, this EIS is not characterizing the Project's greenhouse gas emissions as significant or insignificant because the Commission is conducting a generic proceeding to determine whether and how the Commission will conduct significance determinations going forward.¹

¹ Consideration of Greenhouse Gas Emissions in Natural Gas Infrastructure Project Reviews, 178 FERC ¶ 61,108 (2022); 178 FERC ¶ 61,197 (2022).

The U.S. Environmental Protection Agency participated as a cooperating agency in the preparation of the EIS. Cooperating agencies have jurisdiction by law or special expertise with respect to resources potentially affected by the proposal and participate in the NEPA analysis. Although the U.S. Environmental Protection Agency provides input to the conclusions and recommendations presented in the final EIS, the agency may present its own conclusions and recommendations in any applicable Records of Decision or other documentation for the Project.

The final EIS addresses the potential environmental effects of the construction and operation of the following project facilities:

• Henderson Lateral—Construction of an approximately 23.5-mile-long, 20-inch-diameter natural gas transmission pipeline extending from a new tie-in facility in Henderson County, Kentucky to the new AB Brown Meter and Regulating (M&R) Station in Posey County, Indiana.

• AB Brown M&R Station and Point of Demarcation Site (Posey County, Indiana)—Construction of a delivery M&R station, receiver facility, and a 0.1-mile-long, 16-inch-diameter interconnecting pipeline terminating at the new Point of Demarcation Site, which would serve as CenterPoint's tie-in for Project facilities for its AB Brown Generating Station.

• Slaughters Compressor Station (Webster County, Kentucky)—Installation of a new 4,863-horsepower Solar Centaur 50 turbine compressor unit with piping modifications and other appurtenant facilities, abandonment in place of an existing compressor unit (Unit 5), and placement on standby of two existing compressor units (Unit 6 and Unit 7).

• New ancillary facilities including a mainline valve and tie-in facility in Henderson County, Kentucky and upgrades to an existing M&R station in Johnson County, Indiana.

The Commission mailed a copy of the Notice of Availability of the Final Environmental Impact Statement for the Proposed Henderson County Expansion Project to federal, state, and local government representatives and agencies; elected officials; environmental and public interest groups; Native American Tribes; potentially affected landowners and other interested individuals and groups; and newspapers and libraries in the Project area. The final EIS is only available in electronic format. It may be viewed and downloaded from the FERC's website (www.ferc.gov), on the natural gas environmental documents page (https://www.ferc.gov/industries-data/natural-gas/environment/environmental-documents). In addition, the final EIS may be accessed by using the eLibrary link on the FERC's website. Click on the eLibrary link (https://elibrary.ferc.gov/eLibrary/search) select “General Search” and enter the docket number in the “Docket Number” field, excluding the last three digits (i.e., CP21-467). Be sure you have selected an appropriate date range. For assistance, please contact FERC Online Support at FercOnlineSupport@ferc.gov or toll free at (866) 208-3676, or for TTY, contact (202) 502-8659.

Additional information about the project is available from the Commission's Office of External Affairs, at (866) 208-FERC, or on the FERC website (www.ferc.gov) using the eLibrary link. The eLibrary link also provides access to the texts of all formal documents issued by the Commission, such as orders, notices, and rulemakings.

In addition, the Commission offers a free service called eSubscription that allows you to keep track of all formal issuances and submittals in specific dockets. This can reduce the amount of time you spend researching proceedings by automatically providing you with notification of these filings, document summaries, and direct links to the documents. Go to https://www.ferc.gov/ferc-online/overview to register for eSubscription.

Dated: August 25, 2022.
Debbie-Anne A. Reese,
Deputy Secretary.

[FR Doc. 2022-18790 Filed 8-30-22; 8:45 am]

BILLING CODE 6717-01-P